DEPARTMENT OF LABOR

Mine Safety and Health Administration

Fee Adjustments for Testing, Evaluation, and Approval of Mining Products

AGENCY: Mine Safety and Health Administration (MSHA), Labor.

ACTION: Notice of fee adjustments.

SUMMARY: This notice revises MSHA's Approval and Certification Center (A&CC) user fees for services provided pursuant to part 5 of Title 30 of the Code of Federal Regulations (CFR) during 2006. Fees compensate MSHA for the costs that the agency incurs for testing and evaluating equipment and materials manufactured for use in the mining industry. The fees for 2006 are based on the Agency's fiscal year 2005 actual expenses.

DATES: This fee schedule is effective from January 1, 2006 through December 31, 2006.

FOR FURTHER INFORMATION CONTACT: Steven J. Luzik, Chief, Approval and Certification Center (A&CC), 304-547-2029 or 304-547-0400.

SUPPLEMENTARY INFORMATION:

Fee Computation

MSHA has revised its fee schedule for 2006 in accordance with part 5 of 30 CFR, which was amended by a direct final rule published in the Federal Register (70 FR 46336) on August 9, 2005. For approval applications postmarked before January 1, 2006, MSHA will continue to calculate fees under the previous (2005) fee schedule, published on December 29, 2004 (69 FR 78046).

In general, MSHA computed the 2006 fees based on fiscal year 2005 data. The Agency calculated a weighted-average, direct cost for all of the services that it provided during fiscal year 2005 in the processing of requests for testing, evaluation, and approval of equipment and materials manufactured for use in the mining industry. From this cost, MSHA calculated a single hourly rate to apply uniformly.

Changes to Fee Assessments for 2006

On November 7, 2005, MSHA's direct final rule became effective (70 FR 67632). This final rule amended part 5 to reflect established policy and procedures for administering user fees. In addition, the final rule advised the public that the fees relating to part 15 testing of explosives would be modified. In recent years, MSHA has relied on the Department of Health and Human Services' National Institute for Occupational Safety and Health (NIOSH) to conduct part 15 testing on its behalf. Since NIOSH no longer has the facilities to conduct all of the part 15 tests, the tests will be contracted out to other organizations. For additional information regarding part 15 testing, please contact Steven J. Luzik, Chief, Approval and Certification Center, 304-547-2029 or 304-547-0400.

Dated: December 28, 2005.
Robert M. Friend,
Acting Deputy Assistant Secretary for Mine Safety and Health.

Fee Schedule Effective January 1, 2006
[Based on FY 2005 data]
Action title | Hourly rate
Fees for Testing, Evaluation, Approval and Retesting for Approval as a Result of Post-Approval Product Audit of all Mining Products ¹ | $71
¹ Full approval fee consists of evaluation cost plus applicable test costs.

Note: When the nature of the product requires that MSHA test and evaluate the product at a location other than on MSHA premises, MSHA must be reimbursed for the travel, subsistence, and incidental expenses of its representative in accordance with Federal government travel regulations. This reimbursement is in addition to the fees charged for evaluation and testing.

[FR Doc. 05-24691 Filed 12-29-05; 8:45 am]

BILLING CODE 4510-43-P